DEPARTMENT OF TRANSPORTATION

Federal Aviation Administration

Thirty Eighth RTCA SC-213 Enhanced Flight Vision Systems/Synthetic Vision Systems (EFVS/SVS) Joint Plenary With EUROCAE Working Group 79

AGENCY: Federal Aviation Administration (FAA), U.S. Department of Transportation (DOT).

ACTION: Thirty Eighth RTCA SC-213 Enhanced Flight Vision Systems/Synthetic Vision Systems (EFVS/SVS) Joint Plenary with EUROCAE Working Group 79.

SUMMARY: The FAA is issuing this notice to advise the public of a meeting of Thirty Eighth RTCA SC-213 Enhanced Flight Vision Systems/Synthetic Vision Systems (EFVS/SVS) Joint Plenary with EUROCAE Working Group 79.

DATES: The meeting will be held April 18-19, 2018 9:00 a.m.-5:00 p.m.

ADDRESSES: The meeting will be held at: European Aviation Safety Agency, Konrad-Adenauer-Ufer 3, D-50668, Köln, Germany.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Thirty Eighth RTCA SC-213 Enhanced Flight Vision Systems/Synthetic Vision Systems (EFVS/SVS) Joint Plenary with EUROCAE Working Group 79. The agenda will include the following:

Wednesday April 18, 2018, 9:00 a.m.-5:00 p.m.

1. Plenary discussion (sign-in at 09:00 a.m.)

2. Introductions and Administrative items

3. DFO statement

4. Review and approve minutes from October 2017 Plenary meeting

5. Review and approve minutes from December 2017 Virtual Plenary

6. Review and approve minutes for January 2018 Virtual Plenary

7. Review of terms of reference and update work product dates

8. WG1, WG2, WG3 and WG4 status updates

9. Industry updates

10. Working group discussions—WG-4

Thursday April 19, 2018, 9:00 a.m.-5:00 p.m.

11. Working group discussions

12. Discuss initiating open consultation/final review and comment for: Safety and Performance Requirements (SPR) for Vision Systems for Takeoff (WG-2)

13. Discuss finalizing open consultation/final review and comment for: Minimum Aviation System Performance Standards (MASPS) for a Combined Vision Guidance System for Rotorcraft Operations (WG-4)

14. Administrative items (new meeting location/dates, action items etc.)

15. Adjourn

Attendance is open to the interested public but limited to space availability. With the approval of the chairman, members of the public may present oral statements at the meeting. Registration is required for attendance. Persons wishing to present statements or obtain information should contact the person listed in the FOR FURTHER INFORMATION CONTACT section. Members of the public may present a written statement to the committee at any time.

Issued in Washington, DC on February 25, 2018.
Michelle Swearingen,
Systems and Equipment Standards Branch, AIR-6B0, Policy and Innovation Division, AIR-600, Federal Aviation Administration.

[FR Doc. 2018-04244 Filed 3-1-18; 8:45 am]

BILLING CODE 4910-13-P